SMALL BUSINESS ADMINISTRATION

[Declaration of Disaster #3577; Amdt. #1]

State of Nebraska

In accordance with a notice received from the Department of Homeland Security—Federal Emergency Management Agency, effective June 1, 2004, the above numbered declaration is hereby amended to establish the incident period for this disaster as beginning on May 20, 2004, and continuing through June 1, 2004.

All other information remains the same, i.e., the deadline for filing applications for physical damage is July 26, 2004, and for economic injury the deadline is February 25, 2005.

(Catalog of Federal Domestic Assistance Program Nos. 59002 and 59008)
Dated: June 3, 2004.
Herbert L. Mitchell,
Associate Administrator for Disaster Assistance.

[FR Doc. 04-13185 Filed 6-9-04; 8:45 am]

BILLING CODE 8025-01-P